COMMITTEE FOR THE IMPLEMENTATION OF TEXTILE AGREEMENTS

Denial of Commercial Availability Request under the African Growth and Opportunity Act (AGOA) and the United States-Caribbean Basin Trade Partnership Act (CBTPA)

July 18, 2005.

AGENCY: The Committee for the Implementation of Textile Agreements (CITA).

ACTION: Denial of the request alleging that certain woven bamboo/cotton fabric cannot be supplied by the domestic in commercial quantities in a timely manner under the AGOA and the CBTPA.

SUMMARY: On May 18, 2005 the Chairman of CITA received a petition from Columbia Sportswear Company alleging that certain woven bamboo/cotton fabric, of detailed specifications, classified in subheading 5516.42.0022 of the Harmonized Tariff Schedule of the United States (HTSUS), cannot be supplied by the domestic industry in commercial quantities in a timely manner. The petition requested that apparel articles of such fabrics be eligible for preferential treatment under the AGOA and the CBTPA. CITA has determined that the subject fabrics can be supplied by the domestic industry in commercial quantities in a timely manner and, therefore, denies the request.

FOR FURTHER INFORMATION CONTACT: Janet E. Heinzen, International Trade Specialist, Office of Textiles and Apparel, U.S. Department of Commerce, (202) 482-3400.

SUPPLEMENTARY INFORMATION:

Authority: Section 112(b)(5)(B) of the AGOA; Section 211(a) of the CBTPA amending Section 213(b)(2)(A)(v)(II) of the Caribbean Basin Economic Recovery Act (CBERA); Sections 1 and 6 of Executive Order No. 13191 of January 17, 2001; Presidential Proclamations 7350 and 7351 of October 2, 2000.

Background: The AGOA and the CBTPA provide for quota- and duty-free treatment for qualifying textile and apparel products. Such treatment is generally limited to products manufactured from yarns and fabrics formed in the United States or a beneficiary country. The AGOA and the CBTPA also provide for quota- and duty-free treatment for apparel articles that are both cut (or knit-to-shape) and sewn or otherwise assembled in one or more beneficiary countries from fabric or yarn that is not formed in the United States, if it has been determined that such fabric or yarn cannot be supplied by the domestic industry in commercial quantities in a timely manner. In Executive Order No. 13191 (66 FR 7271), CITA has been delegated the authority to determine whether yarns or fabrics cannot be supplied by the domestic industry in commercial quantities in a timely manner under the AGOA and the CBTPA. On March 6, 2001, CITA published procedures that it will follow in considering requests (66 FR 13502).

On May 18, 2005, the Chairman of CITA received a petition from Columbia Sportswear Company alleging that certain woven bamboo/cotton fabric, of detailed specifications, classified in HTSUS subheading 5516.42.0022, cannot be supplied by the domestic industry in commercial quantities in a timely manner. The petition requested that apparel articles of such fabric be eligible for preferential treatment under the AGOA and the CBTPA.

On May 25, 2005, CITA published a Federal Register notice requesting public comments on the request, particularly with respect to whether this fabric can be supplied by the domestic industry in commercial quantities in a timely manner. See Request for Public Comments on Commercial Availability Petition under the African Growth and Opportunity Act (AGOA) and the United States - Caribbean Basin Trade Partnership Act (CBTPA), 70 FR 30088 (May 25, 2005). On June 10, 2005, CITA and USTR offered to hold consultations with the House Ways and Means Committee and the Senate Finance Committee, but no consultations were requested. We also requested advice from the U.S. International Trade Commission and the relevant Industry Trade Advisory Committees.

Based on the information and advice received by CITA, public comments, and the report from the International Trade Commission, CITA found that there is domestic production, capacity, and ability to supply the subject fabric in commercial quantities in a timely manner.

On the basis of currently available information and our review of this request, CITA has determined that there is domestic capacity to supply the subject fabric in commercial quantities in a timely manner. The request from Columbia Sportswear Company is denied.

James C. Leonard III,
Chairman, Committee for the Implementation of Textile Agreements.

[FR Doc. E5-3907 Filed 7-20-05; 8:45 am]

BILLING CODE 3510-DS-S